FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

Date and Time: The special meeting of the Board was held at the offices of the Farm Credit Administration in McLean, Virginia, on September 26, 2002, from 3:30 p.m. until such time as the Board concluded its business.

FOR FURTHER INFORMATION CONTACT: Jeanette C. Brinkley, Acting Secretary to the Farm Credit Administration Board, (703) 883-4009, TTY (703)883-4056.

ADDRESSES: Farm Credit Administration, 1501 Farm Credit Drive, McLean, Virginia 22102-5090.

SUPPLEMENTARY INFORMATION: This meeting of the Board was open to the public (limited space available). The matter considered at the meeting was:

Open Session

• New Business—Other

• FY 2003 Revised Budget and FY 2004 Proposed Budget.

Dated: October 1, 2002.
Jeanette C. Brinkley,
Acting Secretary, Farm Credit Administration Board.

[FR Doc. 02-25369 Filed 10-2-02; 8:58 am]

BILLING CODE 6705-01-P